DEPARTMENT OF COMMERCE

Foreign-Trade Zones Board

[Order No. 1647]

Reorganization/Expansion of Foreign-Trade Zone 114; Peoria, IL, Area

Pursuant to its authority under the Foreign-Trade Zones Act of June 18, 1934, as amended (19 U.S.C. 81a-81u), the Foreign-Trade Zones Board (the Board) adopts the following Order:

Whereas, the Economic Development Council for Central Illinois, Inc., grantee of Foreign-Trade Zone 114, submitted an application to the Board for authority to reorganize and expand its zone to delete Site 3 in its entirety and to include two sites at the former Chanute Air Force Base (Site 7) in Rantoul and at the Logistics Park Galesburg (Site 8) in Galesburg, Illinois, adjacent to the Peoria Customs and Border Protection port of entry (FTZ Docket 9-2009, filed 3/6/09);

Whereas, notice inviting public comment was given in the Federal Register (74 FR 10883-10884, 3/13/09) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to reorganize and expand FTZ 114 is approved, subject to the FTZ Act and the Board's regulations, including Section 400.28.

Signed at Washington, DC, this 16th day of October 2009.
Ronald K. Lorentzen,
Acting Assistant Secretary of Commerce for Import Administration, Alternate Chairman, Foreign-Trade Zones Board.

[FR Doc. E9-26102 Filed 10-28-09; 8:45 am]

BILLING CODE P